DEPARTMENT OF AGRICULTURE

Animal and Plant Health Inspection Service

[Docket No. APHIS-2017-0103]

Notice of Proposed Revision To Import Requirements for the Importation of Fresh Fragrant Pears From China Into the United States

AGENCY: Animal and Plant Health Inspection Service, USDA.

ACTION: Notice.

SUMMARY: We are advising the public that we have prepared a pest risk analysis relative to the importation into the United States of fragrant pears from an additional area of production in China. Based on the findings of the analysis, we are proposing to authorize the importation of fragrant pears from this additional area of production in China and revise the conditions under which fragrant pears from authorized areas of production in China may be imported into the United States. We are making the pest risk analysis available to the public for review and comment.

DATES: We will consider all comments that we receive on or before June 17, 2019.

ADDRESSES: You may submit comments by either of the following methods:

• Federal eRulemaking Portal: Go to http://www.regulations.gov/#!docketDetail;D=APHIS-2017-0103.

• Postal Mail/Commercial Delivery: Send your comment to Docket No. APHIS-2017-0103, Regulatory Analysis and Development, PPD, APHIS, Station 3A-03.8, 4700 River Road Unit 118, Riverdale, MD 20737-1238.

Supporting documents and any comments we receive on this docket may be viewed at http://www.regulations.gov/#!docketDetail;D=APHIS-2017-0103 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Marc Phillips, Senior Regulatory Policy Specialist, PPQ, APHIS, 4700 River Road Unit 133, Riverdale, MD 20737-1231; (301) 851-2114.

SUPPLEMENTARY INFORMATION: Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, are listed on the internet in APHIS' Fruits and Vegetables Import Requirements database, or FAVIR (https://epermits.aphis.usda.gov/manual). It also provides that, if the Administrator of APHIS determines that any of the phytosanitary measures required for the importation of a particular fruit or vegetable are no longer necessary to reasonably mitigate the plant pest risk posed by the fruit or vegetable, APHIS will publish a notice in the Federal Register making its pest risk analysis and determination available for public comment.

Currently, fragrant pear from China is listed in FAVIR as a fruit authorized importation into the United States, subject to phytosanitary measures. In summary, these measures require that:

• Fragrant pears may only be imported from China if they are grown in the Korla region of Xinjiang Province at a production site that is registered with the national plant protection organization (NPPO) of China.

• The fragrant pears must be produced from propagative material that has been certified as free of quarantine pests.

• Registered places of production are subject to pre- and post-harvest inspections.

• Fragrant pears must be packed in labeled cartons.

• Fragrant pears must be held in a cold storage facility while awaiting export.

• If the cold storage facility also stores fruit from unregistered production sites, the pears must be isolated from such fruit.

• Fragrant pears must be shipped in insect-proof containers.

• Each consignment must be accompanied by a phytosanitary certificate stating that the requirements listed above have been met and that the consignment has been inspected and found free of quarantine pests.

• Fragrant pears are subject to inspection at the port of entry into the United States.

• Fragrant pears must be imported under permit.

APHIS received a request from the NPPO of China to allow imports of fragrant pears from an expanded production area that would include the Akesu region as well as the currently approved Korla region of Xinjiang Province. The request was for market access to the entire United States, comprising all 50 States and U.S. territories. In response to the request, APHIS prepared a pest list to evaluate the pests of quarantine significance that could follow the pathway of importation of fragrant pears from the Akesu and Korla regions of Xinjiang Province in China into the United States.

In preparing the pest list, we discovered that our existing requirements for fragrant pear from China were based on a 1997 pest risk assessment (PRA) for all pear species from all of China, rather than limiting the assessment to fragrant pears from Xinjiang Province. In that same 1997 PRA, we also misidentified the fragrant pears as belonging to the species Pyrus sp. nr. communis, rather than the species Pyrus x sinkiangensis Yu. Our new pest list corrects these errors. The pest list identifies two pests of quarantine significance that could follow the pathway of importation of fragrant pears from the Akesu and Korla regions of Xinjiang Province in China into the United States: Eulecanium circumfluum Borchsenius, a soft scale, and Euzophera pyriella Yang, the pyralid moth.

Based on the pest list, a risk management document (RMD) was prepared to identify the phytosanitary measures that could be applied to the importation of fragrant pears from the Akesu and Korla regions of Xinjiang Province to mitigate the pest risk.

We have determined that fragrant pears can safely be imported from the Akesu and Korla regions of Xinjiang Province subject to the following phytosanitary measures:

• The fragrant pears must be grown in the Akesu or Korla region at a production site that is registered with the NPPO of China.

• Registered production sites must have in place a production site control program approved by APHIS and the NPPO of China.

• The NPPO of China is responsible for ensuring that registered production sites are subject to field sanitation and that growers are aware of quarantine pests and control measures to be taken for their control. Such measures must be described in detail in an operational workplan approved by the NPPO of China and APHIS.

• Only intact fruits may be harvested for export and the harvested fruit must be safeguarded against quarantine pests from the production site until the consignment is shipped.

• Fragrant pears must be packed in a packinghouse registered with the NPPO of China.

• The packinghouses must have a tracking system in place that will allow for traceback of the fruit to individual production sites.

• Registered packinghouses are prohibited from packing fragrant pears destined for other countries while packing fruit destined for the United States.

• Packinghouse procedures must be in accordance with the operational workplan.

• Each shipping box must be marked with the identity of the packinghouse and grower.

• Each consignment of fragrant pears must be accompanied by a phytosanitary certificate issued by the NPPO of China attesting to place of origin (production site and region) and stating that all APHIS phytosanitary requirements have been met and that the consignment was inspected and found free of quarantine pests.

• Fragrant pears may be imported as commercial consignments only.

• Fragrant pears are subject to inspection at the port of entry into the United States.

• Fragrant pears must be imported under permit.

Therefore, in accordance with § 319.56-4(c)(3), we are announcing the availability of our pest list and RMD for public review and comment. Those documents, as well as a description of the economic considerations associated with the importation of fresh fragrant pears from the Akesu and Korla regions of Xinjiang Province in China, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to revise the requirements for the importation of fragrant pears from China in a subsequent notice. If the overall conclusions of our analysis and the Administrator's determination of risk remain unchanged following our consideration of the comments, then we will revise the requirements for the importation of fragrant pears from China in accordance with this notice.

Authority: 7 U.S.C. 1633, 7701-7772, and 7781-7786; 21 U.S.C. 136 and 136a; 7 CFR 2.22, 2.80, and 371.3.

Done in Washington, DC, this 10th day of April 2019.
Kevin Shea,
Administrator, Animal and Plant Health Inspection Service.

[FR Doc. 2019-07665 Filed 4-16-19; 8:45 am]

BILLING CODE 3410-34-P